ENVIRONMENTAL PROTECTION AGENCY

[FRL OP-OFA-058]

Environmental Impact Statements; Notice of Availability

Responsible Agency: Office of Federal Activities, General Information 202-564-5632 or https://www.epa.gov/nepa.

Weekly receipt of Environmental Impact Statements (EIS)

Filed February 13, 2023 10 a.m. EST Through February 17, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230032, Final, USFS, WY, Invasive and Other Select Plant Management on the Bighorn NF, Review Period Ends: 03/27/2023, Contact: Thad Berrett 307-684-4636.

EIS No. 20230033, Final, FHWA, LA, Lafayette Regional Xpressway Tier 1, Contact: Larry Breland 225-757-7607.

Pursuant to 23 U.S.C. 139(n)(2), FHWA has issued a single FEIS and ROD. Therefore, the 30-day wait/review period under NEPA does not apply to this action.

EIS No. 20230034, Final, FERC, LA, Venice Extension Project, Review Period Ends: 03/27/2023, Contact: Office of External Affairs 866-208-3372.

Dated: February 17, 2023.
Cindy S. Barger,
Director, NEPA Compliance Division, Office of Federal Activities.

[FR Doc. 2023-03844 Filed 2-23-23; 8:45 am]

BILLING CODE 6560-50-P